FEDERAL COMMUNICATIONS COMMISSION

47 CFR Part 73

[DA 04-1282; MB Docket No. 02-177; RM-10489]

Radio Broadcasting Services; Milano, TX

AGENCY: Federal Communications Commission.

ACTION: Proposed rule; dismissal.

SUMMARY: At the request of David P. Garland, we dismiss his petition for rule making proposing the allotment of Channel 274A at Milano, Texas, as the community's first local aural transmission service. See FR 31597, July 19, 2002. We also dismiss the counterproposal filed by Roy E. Henderson proposing an upgrade from Channel 297A to Channel 297C3 at Caldwell, the reallotment of Channel 297C3 from Caldwell to Bedias, and related channel substitution and modified reference coordinates to accommodate the reallotment. The allotment of Channel 274A at Caldwell as a replacement service is not consistent with Section 73.315 of the Commission's Rules because it does not provide city grade coverage over the entire community. Accordingly, since counterproposals must be “technically correct and substantially complete” at the time they are filed, the counterproposal is deemed technically defective.

FOR FURTHER INFORMATION CONTACT: Sharon P. McDonald, Media Bureau, (202) 418-2180.

SUPPLEMENTARY INFORMATION: This is a synopsis of the Commission's Report and Order, MB Docket No. 02-177, adopted May 19, 2004, and released May 21, 2004. The full text of this Commission decision is available for inspection and copying during normal business hours in the FCC Reference Information Center (Room CY-A257), 445 12th Street, SW, Washington, DC. The complete text of this decision may also be purchased from the Commission's copy contractors, Qualex International, Portals II, 445 12th Street, SW., Room CY-B402, Washington, DC 20554.

Federal Communications Commission.
John A. Karousos,
Assistant Chief, Audio Division, Media Bureau.

[FR Doc. 04-13813 Filed 6-17-04; 8:45 am]

BILLING CODE 6712-01-P